DEPARTMENT OF COMMERCE

International Trade Administration

[A-549-821]

Notice of Extension of Deadline for the Preliminary Results of Antidumping Duty Administrative Review: Polyethylene Retail Carrier Bags from Thailand

AGENCY: Import Administration, International Trade Administration, Department of Commerce,

EFFECTIVE DATE: July 27, 2006.

FOR FURTHER INFORMATION CONTACT: Lyn Johnson or Richard Rimlinger, AD/CVD Operations, Office 5, Import Administration, International Trade Administration, U.S. Department of Commerce, 14th Street and Constitution Avenue, NW., Washington, DC 20230; telephone: (202) 482-5287 and (202) 482-4477, respectively.

SUPPLEMENTARY INFORMATION:

Extension of Deadline

At the request of various parties, the Department of Commerce (the Department) initiated an administrative review of the antidumping duty order on polyethylene retail carrier bags from Thailand for the period January 26, 2004, through July 31, 2005. See Initiation of Antidumping and Countervailing Duty Administrative Reviews and Request for Revocation in Part, 70 FR 56631 (September 28, 2005). Section 751(a)(3)(A) of the Tariff Act of 1930, as amended (the Act), requires the Department to issue preliminary results of review within 245 days after the last day of the anniversary month of an order for which a review is requested and final results within 120 days after the date on which the preliminary results were published. If it is not practicable to complete the review within these time periods, section 751(a)(3)(A) of the Act allows the Department to extend the time limit for the preliminary results to a maximum of 365 days after the last day of the anniversary month.

On April 26, 2006, the Department published a notice extending the preliminary results for this review by 90 days until August 1, 2006. See Notice of Extension of Deadline for the Preliminary Results of Antidumping Duty Administrative Review: Polyethylene Retail Carrier Bags from Thailand, 71 FR 24641 (April 26, 2006). Since the publication of the extension notice, the Department conducted home-market sales and cost verifications of two of the seven respondents involved in this review and has a number of issues to address as a result of these verifications. In addition, the Department must also address several complex issues raised in recent filings by interested parties involving, among others, costs of production, affiliated-party inputs, direct material expenses, and sales reporting.

Due to the complexity of the issues in this review, the Department needs additional time to conduct its analysis. Therefore, we are extending the deadline for issuing the preliminary results of this review by an additional 30 days until August 31, 2006.

This notice is published in accordance with sections 751(a)(3)(A) and 777(i) of the Act.

Dated: July 21, 2006.
Stephen J. Claeys,
Deputy Assistant Secretary for Import Administration.

[FR Doc. E6-11971 Filed 7-26-06; 8:45 am]

BILLING CODE: 3510-DS-S